DEPARTMENT OF HEALTH AND HUMAN SERVICES

Assistant Secretary for Planning & Evaluation; Medicaid Program; Announcement of the Appointment of New Individuals To Serve on the Medicaid Commission

AGENCY: Assistant Secretary for Planning & Evaluation (ASPE), HHS.

ACTION: Notice.

SUMMARY: This notice announces the appointment of three new individuals to serve on the Medicaid Commission and the release of one Commissioner from service on the Medicaid Commission. Notice of this announcement is given under the Federal Advisory Committee Act (5 U.S.C. App. 2, section 2(b)(5)). The Medicaid Commission will advise the Secretary on ways to modernize the Medicaid program so that it can provide high-quality health care to its beneficiaries in a financially sustainable way.

New Medicaid Commission Voting Members: John Ellis “Jeb” Bush, Joe Manchin III, and Donald Young.

Medicaid Commission Member Released from Service on the Medicaid Commission: Michael O'Grady.

SUPPLEMENTARY INFORMATION: On May 24, 2005, CMS published a notice (70 FR 29765) announcing the Medicaid Commission and requesting nominations for individuals to serve on the Medicaid Commission. The next meeting of the Medicaid Commission will be held October 26-27, 2005, as previously published in the Federal Register (70 FR 58706). The meeting will be held at the following address: Holiday Inn on The Hill, 415 New Jersey Avenue, NW., Washington, DC 20001, United States, telephone: 1 (202) 638-1616, fax: 1 (202) 638-0707.

Web site: You may access up-to-date information on this meeting at http://www.cms.hhs.gov/faca/mc/default.asp.

FOR FURTHER INFORMATION CONTACT: Margaret Reiser, Medicaid Commission, (202) 205-8255.

Authority: 5 U.S.C. App. 2, section 10(a)(1) and (a)(2).

Dated: October 20, 2005.
Michael J. O'Grady,
Assistant Secretary for Planning and Evaluation, Department of Health and Human Services.

[FR Doc. 05-21411 Filed 10-26-05; 8:45 am]

BILLING CODE 5150-05-P